DEPARTMENT OF THE TREASURY

Open Meeting of the Federal Advisory Committee on Insurance

AGENCY: Departmental Offices, Treasury.

ACTION: Notice of Open Meeting.

SUMMARY: This notice sets forth the proposed topics to be discussed for a meeting of the Department of the Treasury's Federal Advisory Committee on Insurance. The meeting is open the public. The meeting site is accessible to individuals with disabilities. The FACI will convene its first meeting on Friday, March 30, 2012, in the Cash Room, Department of the Treasury, 1500 Pennsylvania Avenue NW., Washington, DC, 20220, beginning at 1 p.m. Eastern Time.

DATES: The meeting will be held on Friday, March 30, 2012, commencing at 1 p.m. Eastern Time.

ADDRESSES: The Federal Advisory Committee on Insurance meeting will be held in the Cash Room, Department of the Treasury, 1500 Pennsylvania Avenue NW., Washington, DC 20220. The meeting will be open to the public. Because the meeting will be held in a secured facility, members of the public who plan to attend the meeting must contact the Federal Insurance Office (Office), at (202) 622-6910, by 5 p.m. Eastern Time on Monday, March 26, 2012, to inform the Office of the desire to attend the meeting and to provide the information required to enter the building.

FOR FURTHER INFORMATION CONTACT: James P. Brown, Senior Policy Advisor to the Federal Insurance Office, Department of the Treasury, Room 2100 New York Avenue NW., Washington, DC 20220, at (202) 622-6910 (this is not a toll-free number). Persons who have difficulty hearing or speaking may access this number via TTY by calling the toll-free Federal Relay Service at 800-877-8339.

SUPPLEMENTARY INFORMATION: Notice of this meeting is provided in accordance with the Federal Advisory Committee Act, 5 U.S.C. App. II, 10(a)(2), through implementing regulations at 41 CFR 102-3.150.

Public Comment: Members of the public wishing to comment on the business of the Federal Advisory Committee on Insurance are invited to submit written statements by any of the following methods:

Electronic Statements

• Use the Department of the Treasury's Internet designated official by emailing james.brown@treasury.gov.

Paper Statements

• Send paper statements in triplicate to the Federal Advisory Committee on Insurance, Room 2100, Department of the Treasury, 1425 New York Avenue NW., Washington, DC 20220.

The Department of the Treasury will post all statements on its Web site http://www.treasury.gov/about/organizational-structure/offices/Pages/Federal-Insurance.aspx without change, including any business or personal information provided such as names, addresses, email addresses, or telephone numbers. The Department of the Treasury will also make such statements available for public inspection and copying in the Department of the Treasury's library, Room 1428, 1500 Pennsylvania Avenue NW., Washington, DC 20220, on official business days between the hours of 10 a.m. and 5 p.m. Eastern Time. You can make an appointment to inspect statements by telephoning (202) 622-0990. All statements, including attachments and other supporting materials, will be part of the public record and subject to public disclosure. You should submit only information that you wish to make available publicly.

Tentative Agenda/Topics for Discussion: This is the first meeting of the Federal Advisory Committee on Insurance. In this meeting Committee members will be introduced and briefed on applicable ethics standards as well as the Committee Charter and Bylaws. The Committee will discuss topics of interest to the Committee and the work of the Committee in relation to any topic of interest or focus. The Committee will also receive a report on the work to date of the Federal Insurance Office.

Lance Auer,
Deputy Assistant Secretary Financial Institutions Policy.

[FR Doc. 2012-5935 Filed 3-9-12; 8:45 am]

BILLING CODE 4810-25-P